DEPARTMENT OF HOMELAND SECURITY

Coast Guard

33 CFR Part 165

[Docket No. USCG-2019-0409]

Safety Zones; Fireworks Displays in the Fifth Coast Guard District

AGENCY: Coast Guard, DHS.

ACTION: Notice of enforcement of regulation; changes of enforcement.

SUMMARY: The Coast Guard will enforce two safety zones for fireworks displays: The first taking place over the Chester River, at Kent Island Narrows, MD, on July 2, 2019, (an alternate date on July 3, 2019) and the second over the Chesapeake Bay, at Chesapeake Beach, MD, on July 3, 2019, (an alternate date on July 5, 2019). This action is necessary to ensure the safety of life on navigable waterways during these fireworks displays. Our regulation for recurring Fireworks Displays in the Fifth Coast Guard District identifies the safety zones for these fireworks display events. During the enforcement periods, vessels may not enter, remain in, or transit through the safety zones unless authorized by the Captain of the Port or designated Coast Guard patrol personnel on scene.

DATES: The regulations in 33 CFR 165.506 will be enforced for the location listed in the table to § 165.506 at (b)(24) Coast Guard Sector Maryland-National Capital Region—COTP Zone from 8:30 p.m. through 11 p.m. on July 2, 2019. If necessary due to inclement weather, the fireworks display event will be rescheduled and the safety zone will be enforced from 8:30 p.m. through 11 p.m. on July 3, 2019.

The regulations in 33 CFR 165.506 will be enforced for the location listed in the table to § 165.506 at (b)(9) Coast Guard Sector Maryland-National Capital Region—COTP Zone from 8 p.m. until 10:30 p.m. on July 3, 2019. If necessary due to inclement weather, the fireworks display event will be rescheduled and the safety zone will be enforced from 8 p.m. through 10:30 p.m. on July 5, 2019.

FOR FURTHER INFORMATION CONTACT: If you have questions about this notice of enforcement, call or email Mr. Ron Houck, U.S. Coast Guard Sector Maryland-National Capital Region, Waterways Management Division; telephone 410-576-2674, email D05-DG-SectorMD-NCR-MarineEvents@uscg.mil.

SUPPLEMENTARY INFORMATION: The Coast Guard will enforce the safety zone in the table to 33 CFR 165.506 at (b)(24) for the Kent Island Narrows, MD, fireworks display from 8:30 p.m. through 11 p.m. on July 2, 2019. If necessary due to inclement weather, the fireworks display event will be rescheduled and the safety zone will be enforced from 8:30 p.m. through 11 p.m. on July 3, 2019. This date is a slight change from the anticipated date and times of enforcement appearing in the CFR for this event—Thursday before July 4th (observed); and or July 4th, from 5:30 p.m. to 1 a.m. This action is being taken to provide for the safety of life on navigable waterways during the fireworks display. Our regulation for recurring Fireworks Displays in the Fifth Coast Guard District, § 165.506, specifies the location of the regulated area for this safety zone for the Kent Island Narrows, MD, fireworks display, which encompasses portions of the Chester River in Queen Anne's County, MD. As specified in § 165.506(d), during the enforcement period, vessels may not enter, remain in, or transit through the safety zone unless authorized by the Captain of the Port Sector Maryland-National Capital Region (COTP) or designated Coast Guard patrol personnel on scene. The Coast Guard may be assisted by other federal, state, or local agencies in the enforcement of the safety zone.

The Coast Guard will enforce the safety zone in the table to 33 CFR 165.506 at (b)(9) for the Town of Chesapeake Beach, MD, fireworks display from 8 p.m. through 10:30 p.m. on July 3, 2019. If necessary due to inclement weather, the fireworks display event will be rescheduled and the safety zone will be enforced from 8 p.m. through 10:30 p.m. on July 5, 2019. This date is a slight change from the anticipated date and times of enforcement appearing in the CFR for this event—July 4th or the Sunday before, from 5:30 p.m. to 1 a.m. This action is being taken to provide for the safety of life on navigable waterways during the fireworks display. The table to § 165.506 at (b)(9) specifies the location of the regulated area for this safety zone for the Town of Chesapeake Beach, MD, fireworks display, which encompasses portions of the Chesapeake Bay near Chesapeake Beach, MD. As specified in § 165.506(d), during the enforcement period, vessels may not enter, remain in, or transit through the safety zone unless authorized by the Captain of the Port Sector Maryland-National Capital Region (COTP) or designated Coast Guard patrol personnel on scene. The Coast Guard may be assisted by other federal, state, or local agencies in the enforcement of the safety zone. (b)(9).

In addition to this notice of enforcement in the Federal Register, the Coast Guard plans to provide notification of these enforcement periods via the Local Notice to Mariners and marine information broadcasts.

Dated: May 30, 2019.
Joseph B. Loring,
Captain, U.S. Coast Guard Captain of the Port Maryland-National Capital Region.

[FR Doc. 2019-11963 Filed 6-6-19; 8:45 am]

BILLING CODE 9110-04-P